SURFACE TRANSPORTATION BOARD

[Docket No. FD 32365 (Sub-No. 1)]

Decatur Junction Railway Co.—Amended Lease and Operation Exemption—Lines in Illinois

Decatur Junction Railway Co. (DJR), a Class III rail carrier, has filed a verified notice of exemption under 49 CFR 1150.41 to renew its lease and continue to operate a line of railroad owned by Central Illinois Shippers, Inc., located between milepost 728.00 at Assumption, Ill., and milepost 745.54 near Elwin, Ill. (the Line).

According to the verified notice, DJR has leased and operated the Line since 1993.¹ DJR states that pursuant to a recently signed Lease & Operating Agreement, the parties agreed to extend DJR's existing lease operations over the Line through December 31, 2025.

¹ See Decatur Junction Ry.—Lease & Operation Exemption—Lines in Ill., FD 32365 (I.C.C. served Oct. 18, 1993, as corrected Oct. 26, 1993).

DJR states that the Lease & Operating Agreement does not include any interchange commitments. Further, DJR certifies that its projected annual revenues from this transaction will not result in DJR's becoming a Class I or Class II rail carrier and will not exceed $5 million.

The earliest this transaction may be consummated is September 2, 2021, the effective date of the exemption (30 days after the verified notice was filed).

If the notice contains false or misleading information, the exemption is void ab initio. Petitions to revoke the exemption under 49 U.S.C. 10502(d) may be filed at any time. The filing of a petition to revoke will not automatically stay the effectiveness of the exemption. Petitions to stay must be filed no later than August 26, 2021 (at least seven days before the exemption becomes effective).

All pleadings, referring to Docket No. FD 32365 (Sub-No. 1), should be filed with the Surface Transportation Board via e-filing on the Board's website. In addition, a copy of each pleading must be served on DJR's representative, William A. Mullins, Baker & Miller PLLC, 2401 Pennsylvania Ave. NW, Suite 300, Washington, DC 20037.

According to DJR, this action is categorically excluded from environmental review under 49 CFR 1105.6(c) and from historic reporting under 49 CFR 1105.8(b).

Board decisions and notices are available at www.stb.gov.

Decided: August 16, 2021.
By the Board, Scott M. Zimmerman, Acting Director, Office of Proceedings.
Raina S. White,
Clearance Clerk.

[FR Doc. 2021-17812 Filed 8-18-21; 8:45 am]

BILLING CODE 4915-01-P